DEPARTMENT OF DEFENSE

Corps of Engineers, Department of the Army

Intent to Prepare a Draft Environmental Impact Statement/Environmental Impact Report (EIS/EIR) for a Permit Application for Navigation Modifications and Improvements as Part of the San Pedro Waterfront and Promenade Development, in the Port of Los Angeles, Los Angeles County, CA

AGENCY: U.S. Army Corps of Engineers, DOD.

ACTION: Notice of intent (NOI).

SUMMARY: The U.S. Army Corps of Engineers (Corps) Los Angeles District in conjunction with the Los Angeles Harbor Department (Port) is examining the feasibility of various waterside navigation improvements as part of the Port's proposed San Pedro Waterfront and Promenade redevelopment proposal in the Port of Los Angeles. The Corps is considering the Port's application for a Department of the Army permit under Clean Water Act Section 404 and River and Harbor Act Section 10 to conduct dredge and fill activities and construct various navigation improvements

The primary Federal involvement is the discharge of dredge and/or fill materials within waters of the United States, work (e.g. dredging) and structures in or affecting navigable waters of the United States, and potential impacts on the human environment from such activities. Therefore, in accordance with the National Environmental Policy Act (NEPA), the Corps is requiring the preparation of an Environmental Impact Statement (EIS) prior to rendering a final decision on the Port's permit application. The Corps may ultimately make a determination to permit or deny the above project or permit or deny modified versions of the above project.

Pursuant to the California Environmental Quality Act (CEQA), the Port will serve as Lead Agency for the Preparation of an Environmental Impact Report (EIR). The Corps and the Port have agreed to jointly prepare a Draft EIS/EIR for the improvements at Berth 136-147 in order to optimize efficiency and avoid duplication. The Draft EIS/EIR is intended to be sufficient in scope to address both the Federal and the state and local requirements and environmental issues concerning the proposed activities and permit approvals.

FOR FURTHER INFORMATION CONTACT: Questions about the proposed action and Draft EIS/EIR can be answered by Mr. Joshua Burnam, Corps Project Manager, at (213) 452-3294. Comments shall be addressed to: U.S. Army Corps of Engineers, Los Angeles District, Regulatory Branch. ATTN: File Number 2003-0-1142-JLB P.O. Box 532711, Los Angeles, CA 90053-2325, and Dr. Ralph Appy, Director of Environmental Management, Port of Los Angeles, 425 S. Palos Verdes St., San Pedro, CA 90731.

SUPPLEMENTARY INFORMATION:

1. Background. The EIS/EIR will assess a master development plan for specific development projects and associated infrastructure improvements for approximately 418 acres, from the Vincent Thomas Bridge to the federal breakwater within the property of the City of Los Angeles, Harbor Department. The proposed project would be developed over multiple phases throughout the next approximately 30 years. The EIS/EIR will analyze the master development plan at a programmatic (general overview) level to focus on the cumulative impacts associated with the entire proposed plan. Where information is available, project elements proposed during Phase 1 (Years 1—5) and Phase 2 (Years 6—10) will be studied at a project-specific level of detail. Project elements proposed for construction in Phase 3 (Years 11+) of the master development plan and other project elements for which data are not available will require an additional CEQA and NEPA evaluation, where appropriate, before construction could occur.

2. Clean Water Act Project Purpose. The overall project purpose relevant to the Clean Water Act Section 404 is to:

(a) Perform modifications to the existing shorefront, including water cutouts to increase water area (up to 9.64 acres maximum) and fills, as needed, to reconfigure the site to provide for a variety of waterfront uses, including berthing for visiting tall ships and other vessels, additional marinas for pleasure craft, water taxi and ferry service, tugboats, and other recreational, commercial, and port-related uses, without impeding the public's right to free navigation;

(b) preserve or enhance natural systems that are already within the Port complex (i.e., beaches, salt marsh, wetlands, shallow and deep water habitat, and bluffs);

(c) utilize and enhance the value of existing deep water in the Outer Harbor and Main Channel by upgrading two existing cruise vessel berths and constructing up to two new cruise vessel berths, each approximately 1,250 linear feet, to accommodate projected future growth in the cruise ship industry (one of the new cruise vessel berths would operate 120 days per year);

(d) create a permanent berth for Catalina Express and Island Express; and

(e) provide for a variety of waterfront uses, including berthing for visiting tall ships and other vessels, additional marinas for pleasure crafts, water taxi and ferry service, tugboats, and other recreational, commercial, and port-related uses.

3. Issues. There are several potential environmental issues that will be addressed in the EIS/EIR. Additional issues may be identified during the scoping process. Issues initially identified as potentially significant include:

(a) Geological issues, including dredging and stabilization of fill areas in an area of known seismic activity;

(b) Impacts to hydrology;

(c) Impacts to air quality;

(d) Impacts to traffic, including marine navigation and ground transportation;

(e) Potential for noise impacts;

(f) Impacts to public utilities and services;

(g) Potential impacts to aesthetic resources, including light and glare;

(h) Potential impacts on public health and safety;

(i) Cumulative impacts; and

(j) Disposal of dredged materials.

4. Alternatives. Alternatives initially being considered for the proposed improvement project include the following:

(a) No Project/No Action. This alternative would not implement any of the elements presented in the project description.

(b) No Federal Action Baseline. This alternative is the proposed project without any activity requiring a Corps permit. This alternative represents Corps' environmental baseline.

(c) No Federal Action Baseline with Cruise Ship Expansion. This alternative represents an additional Corps environmental baseline wherein LAHD would only receive Corps permits for the Cruise Ship Expansion/Modification features of the proposed project. This evaluation would allow Corps and LAHD to separately weigh the impact of the cruise ship facilities.

(d) Reduced Density Alternative. This alternative would reduce the density or amount of development as presented in the project description. Results from LAHD-sponsored June 4, 2005 Reduced Development Alternative workshop, held in conjunction with the Port Community Advisory Committee and the San Pedro Neighborhood Councils, along with comments received by the public, would define the project elements included in this alternative.

(e) Maximum Density Alternative. This alternative would increase the density, amount of development, or timing of development as presented in the project description. Comments received by the public and LAHD's Engineering and Project Design Team would influence the project elements included in this alternative.

5. Scoping Process. The U.S. Army Corps of Engineers and the Los Angeles Harbor Department (LAHD) will jointly conduct a public scoping meeting for the proposed From Bridge to Breakwater Master Development Plan for the San Pedro Waterfront and Promenade Project—Draft Environmental Impact Statement (EIS)/Environmental Impact Report (EIR) to receive public comment and assess public concerns regarding the appropriate scope and preparation of the Draft EIS/EIR. Participation in the public meeting by Federal, state, and local agencies and other interested organizations and persons are encouraged. This meeting will be conducted in both English and Spanish. Members of the public who wish to communicate and listen entirely in Spanish are encouraged to attend this meeting. The meeting will be held on October 11, 2005 from 6 p.m.—8:30 p.m. at the Los Angeles Harbor Hotel, located at 601 South Palos Verdes Street. Parties interested in being added to the Corps' electronic mail notification list for the Port of Los Angeles can register at: http://www.spl.usace.army.mil/regulatory/register.html. This list will be used in the future to notify the public about scheduled hearings and availability of future public notices. Participation in the public meeting by Federal, state and local agencies and other interested organizations and persons are encouraged.

During the public scoping hearing, anyone wishing to make a statement will be allocated a certain amount of time to provide information on the proposed project. The amount of time each person is allowed will be directly dependent on the number of people who sign up to speak at the public hearing. At this time, we estimate that individuals will be given 3 minutes to provide their comments verbally. We would like to encourage interest groups to designate an official spokesperson to present the group's views. We will allocate a larger amount of time to official representatives of such groups upon request. Groups wishing to designate an official representative must notify the Corps in writing prior to, but no later than October 4, 2005. The determination of this extended speaking time will be based on the number of responses received by the Corps. This rule will be strictly enforced at the discretion of the Corps' hearing officer. Written and email comments to the Corps and LAHD will be received until October 28, 2005. Written comments should be sent to the address below: U.S. Army Corps of Engineers, Los Angeles District, Regulatory Branch, c/o Dr. Joshua Burnam, 915 Wilshire, Los Angeles, California 90017-3401, e-mail: Joshua.L.Burnam@usace.army.mil.

6. Availability of the Draft EIS/EIR. The joint lead agencies expect the Draft EIS/EIR to be made available to the public in June 2006. A public hearing will be held during the public comment period for the Draft EIS/EIR.

Dated: August 22, 2005.
Mark R. Blackburn,
Lieutenant Colonel, U.S. Army, Acting District Engineer.

[FR Doc. 05-17691 Filed 9-6-05; 8:45 am]

BILLING CODE 3710-92-P